DEPARTMENT OF THE INTERIOR

National Park Service

Notice of Inventory Completion for Native American Human Remains and Associated Funerary Objects in the Possession of the U.S. Department of the Interior, National Park Service, Yosemite National Park, Yosemite, CA

AGENCY: National Park Service, Interior.

ACTION: Notice.

Notice is hereby given in accordance with provisions of the Native American Graves Protection and Repatriation Act (NAGPRA), 43 CFR 10.9, of the completion of an inventory of human remains and associated funerary objects in the possession of the U.S. Department of the Interior, National Park Service, Yosemite National Park, Yosemite, CA.

This notice is published as part of the National Park Service’s administrative responsibilities under NAGPRA, 43 CFR 10.2 (c). The determinations within this notice are the sole responsibility of the National Park Service unit that has control or possession of these Native American human remains. The Assistant Director, Cultural Resources Stewardship and Partnerships is not responsible for the determinations within this notice.

A detailed inventory and assessment of the human remains and associated funerary objects has been made by professional staff of the National Park Service in consultation with lineal descendants and representatives of Bridgeport Paiute Indian Colony of California and the Paiute-Shoshone Indians of the Bishop Community of the Bishop Colony, California. The National Park Service also consulted with representatives of American Indian Council of Mariposa County and the Mono Lake Indian Community, two non-Federally recognized Indian groups.

In 1954, human remains representing one individual were recovered from a site in the Yosemite Valley during legally authorized excavations. The human remains consist of four teeth: one molar, one premolar, and two incisors. The rest of the human remains were left in place at the time of excavation. The 176 associated funerary objects are 1 U.S. half dollar coin dated 1870, 8 buttons, 2 metal thimbles (1 containing what appears to be bird feathers and skin), 1 metal tobacco container lid, 26 iron nails, 4 fragments of a Japanese Kutani porcelain plate, 7 fragments from a lead jar seal, 1 pair of ladies scissors, 1 padlock, 10 pieces of red ochre, 8 haliotis sp. necklace pendants, 1 shell bead, 5 shell fragments, 9 obsidian tool fragments, 73 pieces of obsidian debitage, 1 piece of green glass with possible edge modification, 5 unidentified ungulate long bones, 2 pebbles, 7 stones, and 4 rocks. An unknown number of wood and charcoal fragments were also recovered.

Consultations with Native American representatives at the time of the excavation identified the human remains as those of Kosano, also known as Joaquin Sam, a northern Paiute from either the Bridgeport or Mono Lake communities. Kosano is known to have died in the Yosemite Valley and was buried around 1875. Subsequent consultation has identified several individuals who can trace their ancestry directly and without interruption to Kosano, including Paul Williams (great grandson), Elaine Lundy (great granddaughter), and Janice Lundy Mendez (great-great granddaughter).

Based on the above mentioned information, the superintendent of Yosemite National Park has determined that, pursuant to 43 CFR 10.2 (d)(1), the human remains listed above represent the physical remains of one individual of Native American ancestry. The superintendent of Yosemite National Park also has determined that, pursuant to 43 CFR 10.2 (d)(2), the 176 objects listed above are reasonably believed to have been placed with or near individual human remains at the time of death or later as part of a death rite or ceremony. Lastly, the superintendent of Yosemite National Park has determined that, pursuant to 43 CFR 10.2 (b)(1), Paul Williams, Elaine Lundy, and Janice Lundy Mendez can trace their ancestry directly and without interruption by means of the traditional kinship system of the Paiute people to Kosano.

This notice has been sent to officials of the Bridgeport Paiute Indian Colony of California and the Paiute-Shoshone Indians of the Bishop Community of the Bishop Colony, California. The notice has also been sent to officials of the American Indian Council of Mariposa County and the Mono Lake Indian Community, two non-Federally recognized Indian groups. Representatives of any other Indian tribe that believes itself to be culturally affiliated with these human remains and associated funerary objects should contact David A. Mihalic, Superintendent, Yosemite National Park, P.O. Box 577, Yosemite, CA 95389, telephone (209) 372-0201, before November 8, 2001. Repatriation of the human remains and associated funerary objects to Paul Williams, Elaine Lundy, and Janice Lundy Mendez may begin after that date if no additional claimants come forward.

Dated: July 9, 2001.
John Robbins,
Assistant Director, Cultural Resources Stewardship and Partnerships.

[FR Doc. 01-25159 Filed 10-5-01; 8:45 am]

BILLING CODE 4310-70-S